DEPARTMENT OF AGRICULTURE

Submission for OMB Review; Comment Request

November 28, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Issuance Reconciliation Report.

OMB Control Number: 0584-0080.

Summary of Collection: The Food Stamp Act of 1977 (the Act) at Section 7(d) requires State agencies to report on their Food Stamp Program issuance operations not less than monthly, through a reconciliation process. The Food and Nutrition Service (FNS), administers the Food Stamp Program in cooperation with State and local governments. States are held liable to USDA for any financial losses involved in the issuance of food stamp benefits.

Need and Use of the Information: FNS uses form FNS-46 form, Issuance Reconciliation Report, to ensure that State agencies are responsible for preventing losses or shortages of Federal funds in the issuance of benefits. The FNS-46 report is a program management report which is used on an ongoing basis to document the reconciliation process by which State agencies compare all issuances made during the month to the record for issuance.

Description of Respondents: State, Local, or Tribal Government.

Number of Respondents: 54.

Frequency of Responses: Reporting: Monthly.

Total Burden Hours: 5,184.

Ruth Brown,
Departmental Information Collection Clearance Officer.

[FR Doc. E7-23418 Filed 12-3-07; 8:45 am]

BILLING CODE 3410-30-P